DEPARTMENT OF ENERGY

Federal Energy Regulatory Commission

[Project No. 9025-012]

Hancock Hydro Inc.; Notice of Availability of Final Environmental Assessment

February 22, 2002.

In accordance with the National Environmental Policy Act of 1969 and the Federal Energy Regulatory Commission's (Commission) regulations, 18 CFR Part 380 (Order No. 486, 52 FR 47897), the Office of Energy Projects has reviewed the application for amendment of the license for the Hancock Creek Hydroelectric Project, located on Hancock Creek in King County, Washington, and has prepared a Final Environmental Assessment (FEA) for the project. No federal lands are affected by this project.

The FEA contains the staff's analysis of the potential environmental impacts of modifications to the project and concludes that amending the license for the project, with appropriate environmental protective measures, would not constitute a major federal action that would significantly affect the quality of the human environment.

The FEA is attached to a Commission order issued on February 21, 2002, for the above application. Copies of the FEA can be obtained by calling the Commission's Public Reference Room at (202) 208-1371. Copies of the FEA can also be obtained through the Commission's homepage at http://www.ferc.gov.

For further information, contact Kenneth Hogan at (202) 208-0434.

Magalie R. Salas,
Secretary.

[FR Doc. 02-4760 Filed 2-27-02; 8:45 am]

BILLING CODE 6717-01-P